DEPARTMENT OF TRANSPORTATION

Federal Railroad Administration

Petition for Waiver of Compliance

In accordance with Part 211 of Title 49 Code of Federal Regulations (CFR), notice is hereby given that the Federal Railroad Administration (FRA) has received a request for a waiver of compliance from certain requirements of its safety standards. The individual petition is described below, including the party seeking relief, the regulatory provisions involved, the nature of the relief being requested, and the petitioner's arguments in favor of relief.

Santa Cruz, Big Trees & Pacific Railway Company

[Waiver Petition Docket Number FRA-2010-0001]

The Santa Cruz, Big Trees & Pacific Railway Company (SCBG) seeks a waiver of compliance from certain provisions of 49 CFR part 215, Railroad Freight Car Safety Standards, specifically 49 CFR 215.303 (Stenciling of restricted cars), which requires that restricted railroad freight cars shall be stenciled or marked in clearly legible letters with the letter “R” and a series of designated terms to completely indicate the basis for the restricted operation of the car. In addition, SCBG seeks a waiver of compliance from all of 49 CFR part 224 (Reflectorization of Rail Freight Rolling Stock).

The petition concerns 10 SCBG freight cars numbered: SCBG 401-402, 501-504 and 701-704, which are railroad flat cars converted to passenger carriage cars for tourist and excursion railroad service by the addition of seating, side structures, and steps. Each of the SCBG freight cars in the present petition is more than 50 years old, measured from the date of original construction, and these freight cars are the subject of a parallel petition for special approval for continued operation under § 215.203(c). Therefore, in the first portion of its petition, SCBG seeks a waiver of the requirement for stencilling found in § 215.303, as the railroad states that the stencilling would detract from both the aesthetic and historical nature of the vintage rail car equipment. As SCBG passenger carriage cars are not interchanged, SCBG suggests that the record-keeping requirements of the stencilling may be preserved by maintaining a permanent file of the restrictive conditions at the local SCBG office. Additionally, SCBG petitions for relief from all of the requirements of 49 CFR part 224, as the railroad states that reflectorization would detract from both the aesthetic and historical nature of their vintage equipment.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2010-0001) and may be submitted by any of the following methods:

• Web site: http://www.regulations.gov. Follow the online instructions for submitting comments.

• Fax: 202-493-2251.

• Mail: Docket Operations Facility, U.S. Department of Transportation, 1200 New Jersey Avenue, SE., W12-140, Washington, DC 20590.

• Hand Delivery: 1200 New Jersey Avenue, SE., Room W12-140, Washington, DC 20590, between 9 a.m. and 5 p.m., Monday through Friday, except Federal holidays.

Communications received within 45 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://www.regulations.gov.

Anyone is able to search the electronic form of any written communications and comments received into any of our dockets by the name of the individual submitting the document (or signing the document, if submitted on behalf of an association, business, labor union, etc.). You may review DOT's complete Privacy Act Statement in the Federal Register published on April 11, 2000 (65 FR 19477) or at http://www.dot.gov/privacy.html.

Issued in Washington, DC, on June 10, 2010.
Robert C. Lauby,
Deputy Associate Administrator for Regulatory and Legislative Operations.

[FR Doc. 2010-14475 Filed 6-15-10; 8:45 am]

BILLING CODE 4910-06-P